SMALL BUSINESS ADMINISTRATION

[Declaration of Disaster #3425]

State of Iowa; Disaster Loan Areas

As a result of the President's major disaster declaration on June 19, 2002, I find that Allamakee, Benton, Buchanan, Cedar, Clayton, Clinton, Delaware, Dubuque, Fayette, Iowa, Jackson, Johnson, Jones, Linn, Muscatine, Scott and Winneshiek Counties in the State of Iowa constitute a disaster area due to damages caused by severe storms and flooding occurring on June 3, 2002 and continuing. Applications for loans for physical damage as a result of this disaster may be filed until the close of business on August 18, 2002 and for economic injury until the close of business on March 19, 2003 at the address listed below or other locally announced locations: U.S. Small Business Administration, Disaster Area 3 Office, 4400 Amon Carter Blvd., Suite 102, Ft. Worth, TX 76155.

In addition, applications for economic injury loans from small businesses located in the following contiguous counties may be filed until the specified date at the above location: Black Hawk, Bremer, Chickasaw, Howard, Keokuk, Louisa, Poweshiek, Tama and Washington Counties in the State of Iowa; Carroll, Jo Daviess, Rock Island and Whiteside Counties in the State of Illinois; Houston and Fillmore counties in the State of Minnesota; Crawford, Grant and Vernon counties in the State of Wisconsin.

The interest rates are:

| Percent
For Physical Damage:
Homeowners With Credit Available Elsewhere | 6.750
Homeowners Without Credit Available Elsewhere | 3.375
Businesses With Credit Available Elsewhere | 7.000
Businesses and Non-Profit Organizations Without Credit Available Elsewhere | 3.500
Others (Including Non-Profit Organizations) With Credit Available Elsewhere | 6.375
For Economic Injury:
Businesses and Small Agricultural Cooperatives Without Credit Available Elsewhere | 3.500

The number assigned to this disaster for physical damage is 342511. For economic injury the number is 9Q2700 for Iowa; 9Q2800 for Illinois; 9Q2900 for Minnesota; and 9Q3000 for Wisconsin.

(Catalog of Federal Domestic Assistance Program Nos. 59002 and 59008)
Dated: June 19, 2002.
Herbert L. Mitchell,
Associate Administrator for Disaster Assistance.

[FR Doc. 02-16055 Filed 6-25-02; 8:45 am]

BILLING CODE 8025-01-P